DEPARTMENT OF TRANSPORTATION

Federal Aviation Administration

Receipt of Noise Compatibility Program and Request for Review for San Francisco International Airport, San Francisco, California

AGENCY: Federal Aviation Administration, Department of Transportation.

ACTION: Notice.

SUMMARY: The Federal Aviation Administration (FAA) announces that it is reviewing a proposed noise compatibility program 2018 update that was submitted for San Francisco International Airport by the City and County of San Francisco, Airport Commission, under the provisions of the Aviation Safety and Noise Abatement Act, hereinafter referred to as “the Act” and the Code of Federal Regulations (CFR). This program update was submitted subsequent to a determination by FAA that associated noise exposure maps submitted for San Francisco International Airport were in compliance with applicable requirements, effective January 29, 2016. The existing noise compatibility program for San Francisco International Airport was approved by the FAA on September 7, 1983. The proposed 2018 update to the noise compatibility program will be approved or disapproved on or before April 16, 2019.

DATES: FAA's review of the noise compatibility program update began on October 18, 2018. The public comment period ends December 26, 2018.

FOR FURTHER INFORMATION CONTACT: Camille Garibaldi, Environmental Protection Specialist, SFO-613, Federal Aviation Administration, San Francisco Airports District Office, 1000 Marina Boulevard, Suite 220, Brisbane, California 94005-1835; or by telephone at (650) 827-7613. Comments on the proposed noise compatibility program 2018 update should also be submitted to the above office.

SUPPLEMENTARY INFORMATION: This notice announces that the FAA is reviewing a proposed 2018 update of the noise compatibility program for San Francisco International Airport, which will be approved or disapproved on or before April 16, 2019. This notice also announces the availability of the noise compatibility program 2018 update for public review and comment. An airport operator who has submitted noise exposure maps that are found by FAA to be in compliance with the requirements of 14 CFR part 150, promulgated pursuant to the Act (49 U.S.C. 47501 et Seq.), may submit a noise compatibility program for FAA approval which sets forth the measures the operator has taken or proposes to reduce existing non-compatible uses and prevent the introduction of additional non-compatible uses. The FAA has formally received the noise compatibility program 2018 update for San Francisco International Airport, effective on October 18, 2018. The airport operator has requested that the FAA review this material and that the noise mitigation measures, to be implemented jointly by the airport and surrounding communities, be approved as a noise compatibility program under section 47504 of the Act. Preliminary review of the submitted material for the proposed 2018 update indicates that it conforms to 14 CFR part 150 requirements for the submittal of noise compatibility programs, but that further review will be necessary prior to approval or disapproval of the program. The formal review period, limited by law to a maximum of 180 days, will be completed on or before April 16, 2019.

The FAA's detailed evaluation will be conducted under the provisions of 14 CFR part 150, Section 150.33. The primary considerations in the evaluation process are whether the proposed measures may reduce the level of aviation safety or create an undue burden on interstate or foreign commerce, and whether they are reasonably consistent with obtaining the goal of reducing existing non-compatible land uses and preventing the introduction of additional non-compatible land uses.

Interested persons are invited to comment on the proposed noise compatibility program 2018 update, with specific reference to these factors. All comments relating to these factors, other than those properly addressed to local land use authorities, will be considered by the FAA to the extent practicable. Copies of the noise exposure maps, and the noise compatibility program 2018 update are available for examination at the following locations:

Federal Aviation Administration, Western Pacific Region, Office of Airports, 777 S Aviation Boulevard, Suite 150, El Segundo, California 90245.

Federal Aviation Administration, San Francisco Airports District Office, 1000 Marina Blvd., Suite 220, Brisbane, California 94005-1835.

San Francisco International Airport, Bureau of Planning and Environmental Affairs, 710 North McDonnell Road, 3rd Floor, San Francisco, CA 94128.

Questions may be directed to the individual named above under the heading, FOR FURTHER INFORMATION CONTACT.

Issued in El Segundo, California, on October 18, 2018.
Arlene B. Draper,
Acting Director, Office of Airports, Western-Pacific Region, AWP-600.

[FR Doc. 2018-23404 Filed 10-25-18; 8:45 am]

BILLING CODE 4910-13-P